DEPARTMENT OF THE INTERIOR

Fish and Wildlife Service

[FWS-R9-IA-2008-N0350; 96100-1671-000-P5]

Harvest and Export of American Ginseng

AGENCY: Fish and Wildlife Service, Interior.

ACTION: Notice: announcement of public meeting; request for information from the public.

SUMMARY: We, the U.S. Fish and Wildlife Service (Service), announce a public meeting on American ginseng (Panax quinquefolius). This meeting will help us gather information from the public in preparation of our 2009 findings on the export of American ginseng roots, for the issuance of permits under the Convention on International Trade in Endangered Species of Wild Fauna and Flora (CITES).

DATES: The meeting date is February 24, 2009. An information session will occur at 8 a.m. to 2 p.m., followed by a public meeting at 2 p.m. to 5:30 p.m.

ADDRESSES: The meeting location is: Bristol, VA—Holiday Inn Hotel and Suites, Bristol Convention Center, 3005 Linden Drive, Bristol, VA 24202; telephone number: (276) 466-4100.

FOR FURTHER INFORMATION CONTACT: For further information, or directions to the meeting, contact Ms. Pat Ford, Division of Scientific Authority, U.S. Fish and Wildlife Service, 4401 N. Fairfax Drive, Room 110, Arlington, VA 22203; 703-358-1708 (telephone), 703-358-2276 (fax), or patricia_ford@fws.gov (e-mail).

SUPPLEMENTARY INFORMATION:

Background

The Convention on International Trade in Endangered Species of Wild Fauna and Flora (CITES, or Convention) is an international treaty designed to control and regulate international trade in certain animal and plant species that are now or potentially may be threatened with extinction by international trade. Currently, 174 countries, including the United States, are Parties to CITES. The species for which trade is controlled are listed in Appendix I, II, or III of the Convention. Appendix I includes species threatened with extinction that are or may be affected by international trade. Commercial trade in Appendix-I species is generally prohibited. Appendix II includes species that, although not necessarily threatened with extinction at the present time, may become so unless their trade is strictly controlled through a system of export permits. Appendix II also includes species that CITES must regulate so that trade in other listed species may be brought under effective control (e.g., because of similarity of appearance between listed species and other species). Appendix III comprises species subject to regulation within the jurisdiction of any CITES Party country to enlist the cooperation of the other Parties in regulating international trade in the species.

American ginseng (Panax quinquefolius) was listed in Appendix II of CITES on July 1, 1975. The Division of Scientific Authority and the Division of Management Authority of the Service regulate the export of American ginseng, including whole live or dead plants, whole and sliced roots, and parts of roots. To meet CITES requirements for export of American ginseng from the United States, the Division of Scientific Authority must determine that the export will not be detrimental to the survival of the species, and the Division of Management Authority must be satisfied that the American ginseng roots to be exported were legally acquired.

The Divisions of Scientific Authority and Management Authority make the required findings on a State-by-State basis. To determine whether or not to approve exports of American ginseng, the Division of Scientific Authority reviews available information from various sources (other Federal agencies, State regulatory agencies, industry and associations, nongovernmental organizations, and academic researchers) on the biology and trade status of the species. After a thorough review, the Division of Scientific Authority makes a non-detriment finding and the Division of Management Authority makes a legal acquisition finding on the export of American ginseng to be harvested during the year(s) in question. With the exception of 2005, from 1999 through 2008, the Division of Scientific Authority included in its non-detriment findings for the export of wild and wild-simulated American ginseng roots an age-based restriction (i.e., plants must be at least 5 years old).

States with harvest programs for wild and artificially propagated American ginseng are: Alabama, Arkansas, Georgia, Illinois, Indiana, Iowa, Kentucky, Maine, Maryland, Minnesota, Missouri, New York, North Carolina, Ohio, Pennsylvania, Tennessee, Vermont, Virginia, West Virginia, and Wisconsin. States with harvest programs for only artificially propagated American ginseng are: Idaho, Maine, Michigan, North Dakota, Oregon, and Washington.

The Divisions of Scientific Authority and Management Authority will host an American ginseng workshop from February 24 through 26, 2009, in Bristol, Virginia, with representatives of State and Federal agencies that regulate the species, to discuss the status and management of American ginseng and the CITES export program for the species. This workshop will provide an important opportunity for representatives of the States and Federal agencies to discuss and consider improvements to the CITES export program for this species. Except for the session on February 24, 2009, this meeting will be closed to the public.

Information from the 2009 U.S. Fish and Wildlife Service's American ginseng workshop will be available from our Web site at: http://www.fws.gov/international/DMA_DSA/CITES/plants/ginseng.html; information will also be available upon request from the Division of Scientific Authority (see FOR FURTHER INFORMATION CONTACT).

Public Meeting

We invite the public to listen to academic and Federal government researchers, who will present their most recent research findings on American ginseng, and other invited speakers on February 24, 2009, in Bristol, VA., from 8 a.m. to 2 p.m. (with a lunch break at attendees' expense). After these presentations, from 2 p.m. to 5:30 p.m., we will hold an open public meeting (a listening session) to hear from anyone involved or interested in American ginseng conservation, harvest, and trade. We are particularly interested in obtaining any current information on the status of American ginseng in the wild, and other pertinent information on the conservation and management of the species that would contribute to making the required CITES findings and improve the CITES export program for American ginseng. We will discuss the Federal regulatory framework for the export of American ginseng and the regulations that control the international trade of this species. We will also discuss the different CITES definitions as they are applied to American ginseng grown under different production systems and how we approach these different systems in regulating the export of American ginseng roots.

Persons planning to attend the February 24, 2009, meeting who require interpretation for the hearing impaired must notify the Division of Scientific Authority by January 23, 2009 (see FOR FURTHER INFORMATION CONTACT).

Author

The primary author of this notice is Patricia Ford, the Division of Scientific Authority, U.S. Fish and Wildlife Service.

Dated: December 22, 2008.
Kenneth Stansell,
Acting Director, U.S. Fish and Wildlife Service.

[FR Doc. E8-31471 Filed 1-6-09; 8:45 am]

BILLING CODE 4310-55-P